DEPARTMENT OF THE INTERIOR

Bureau of Land Management

[ID-310-7122-PH-8023; DDG-07-0010]

Notice of Availability, Three Rivers Stone Quarry Expansion Draft Environmental Impact Statement

AGENCY: Bureau of Land Management, Interior.

ACTION: Notice of Availability.

SUMMARY: Pursuant to Section 102 (2)(C) of the National Environmental Policy Act of 1969 and the Federal Land Policy and Management Act of 1976, notice is hereby given that the Bureau of Land Management (BLM), Challis Field Office, has prepared a Draft Environmental Impact Statement (DEIS) to consider whether to approve an Amended Plan of Operations for L&W Stone Corporation to continue mining flagstone from its Three Rivers Stone Quarry.

DATES: Written comments will be accepted for 45 days following the date that the Environmental Protection Agency (EPA) publishes its Notice of Availability in the Federal Register. The BLM intends to hold two public meetings during the 45-day comment period, in Boise and Challis, Idaho. BLM will announce the public meeting times and locations at least 15 days in advance through public notices, media news releases, and/or newsletter mailings.

ADDRESSES: Copies of the DEIS are available upon request from the BLM Idaho Falls District Office, 1405 Hollipark Drive, Idaho Falls, Idaho, 83401, phone 208-524-7530. You may request either a hard copy or a computer disk (CD). A copy of the DEIS will be posted on the Internet at http://www.blm.gov/id/st/en/fo/challis/nepa/Three_Rivers.html. To receive full consideration, comments must be postmarked no later than the last day of the written comment period. (The last day of the written comment period may be identified at the Internet address above, after publication of the EPA Notice of Availability in the Federal Register.)

You may submit comments on the DEIS using any of the following methods:

Mail: Charles Horsburgh, Project Manager, BLM Idaho Falls District Office, 1405 Hollipark Drive, Idaho Falls, Idaho 83401.

Fax: 208-524-7505.

E-mail: Three_Rivers_EIS@blm.gov.

All public comments, including the names and mailing addresses of respondents, will be available for public review at the Idaho Falls District Office in Idaho Falls, Idaho, during regular business hours from 7:45 a.m. to 4:30 p.m., Monday through Friday, except holidays, and may be published as part of the Final EIS. Individual respondents may request confidentiality. Before including your address, phone number, e-mail address, or other personal identifying information in your comment, you should be aware that your entire comment—including your personal identifying information—may be made publicly available at any time. While you can ask us in your comment to withhold your personal identifying information from public review, we cannot guarantee that we will be able to do so. All submissions from organizations and businesses, and from individuals identifying themselves as representatives or officials of organizations or businesses, will be available for public inspection in their entirety.

FOR FURTHER INFORMATION CONTACT: Charles Horsburgh, Project Manager, BLM Idaho Falls District, 1405 Hollipark Drive, Idaho Falls, Idaho 83401, phone 208-524-7530, or fax 208-524-7505.

SUPPLEMENTARY INFORMATION: L&W Stone Corporation mines locatable flagstone on public lands administered by the BLM's Challis Field Office in Custer County, Idaho. L&W Stone submitted an Amended Plan of Operations for its quarry under the 43 CFR part 3809 Regulations in December 2002. In 2004, the BLM completed an Environmental Assessment (EA) regarding the Amended Plan of Operations, signed a Finding of No Significant Impact (FONSI), and approved the project. As a result of a lawsuit that was filed objecting to that approval, the BLM was ordered by the Federal District Court to prepare an EIS for the Amended Plan of Operations.

The DEIS analyzes and discloses the effects of four alternatives, including the No Action and BLM's Preferred Alternative. Alternative A, the No Action Alternative, would result in the cessation of quarrying activities and the implementation of reclamation measures that would stabilize disturbed areas. Alternative B would be a continuation of the interim mining plan that was developed by L&W Stone and approved by the District Court, which has allowed L&W Stone to mine while the EIS is being prepared. Alternative C would be a continuation of mining under the Preferred Alternative from BLM's 2004 EA. Alternative D, the BLM's Preferred Alternative described in the DEIS, would be similar to Alternative C, but would allow for the expansion of quarrying operations into two new areas that contain flagstone resources.

All Alternatives are consistent with the Challis Resource Management Plan and would protect public health, protect surface and groundwater resources, meet post-mining land use requirements, and minimize view-shed impacts.

L&W Stone will be required to submit an updated Plan of Operation that would incorporate the requirements of the Alternative that is selected by the BLM Authorized Officer.

David Rosenkrance,
BLM Challis Field Manager.

[FR Doc. E7-24206 Filed 12-13-07; 8:45 am]

BILLING CODE 4310-GG-P